DEPARTMENT OF ENERGY

Energy Information Administration

Agency Information Collection Activities: Proposed Collection; Comment Request

AGENCY: Energy Information Administration (EIA), Department of Energy (DOE).

ACTION: Agency information collection activities: proposed collection; comment request.

SUMMARY: The EIA is soliciting comments on the proposed reinstatement of the Forms EIA-871A,B,C,E,G, and H, “2007 Commercial Buildings Energy Consumption Survey”.

DATES: Comments must be filed by December 26, 2006. If you anticipate difficulty in submitting comments within that period, contact the person listed below as soon as possible.

ADDRESSES: Send comments to Joelle Michaels. To ensure receipt of the comments by the due date, submission by fax (202-586-0018) or e-mail (joelle.michaels@eia.doe.gov) is recommended. The mailing address is Joelle Michaels, Survey Manager, EI-63, Forrestal Building, U.S. Department of Energy, Washington, DC 20585. Alternatively, Ms. Michaels may be contacted by telephone at (202) 586-8952.

FOR FURTHER INFORMATION CONTACT: Requests for additional information or copies of any forms and instructions should be directed to Joelle Michaels at the address listed above.

SUPPLEMENTARY INFORMATION:

I. Background

II. Current Actions

III. Request for Comments

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer-term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under Section 3507(a) of the Paperwork Reduction Act of 1995.

The Commercial Buildings Energy Consumption Survey (CBECS) has been conducted eight times covering the years 1979, 1983 and 1986 under the name of the “Nonresidential Buildings Energy Consumption Survey,” and years 1989, 1992, 1995, 1999, and 2003 under the current name, “Commercial Buildings Energy Consumption Survey.” CBECS collects baseline data on energy consumption and expenditures in commercial buildings, and on the energy-related characteristics of those buildings. To obtain this information, interviews are conducted for a sample of commercial buildings in the 50 States and the District of Columbia. For buildings in the survey, data are collected on the types, amount and cost of energy consumed in the building, how the energy is used, structural characteristics of the buildings, activities conducted inside the buildings that relate to energy use, building ownership and occupancy, energy conservation measures, and energy-using equipment. The information will be collected using Computer Assisted Personal Interviewing (CAPI) for the 2007 CBECS. For those buildings that cannot provide energy consumption data for the building, the data will be obtained in a mail survey from the suppliers of electricity and natural gas to the building, after receiving permission from the building owner, manager or tenant. This mail survey to the energy suppliers is mandatory. The data obtained from the CBECS are available to the public in a variety of EIA electronic tables and reports at http://www.eia.doe.gov/emeu/cbecs. Public use files that have been screened to protect the identity of the individual respondents are also available electronically at the above Web address. Selected data from the surveys are also published in the Monthly Energy Review and the Annual Energy Review.

II. Current Actions

This will be a proposed reinstatement of a previously approved collection and three-year clearance request to OMB.

The content of the 2007 CBECS will be largely unchanged from the 2003 CBECS. The sampling frame, which was redesigned for the 2003 CBECS, will be updated to account for new construction since 2003.

Proposed changes include:

Form EIA-871I—which collected information from college/university and hospital complexes on the inputs and outputs to their central physical plant, if present—will be discontinued. This form had been added for the 2003 CBECS, but upon review, it was determined that using a separate form was cumbersome and the data that were collected were not of high quality. However, a few questions from the form, such as the total square footage of the entire campus, may be incorporated into the computerized survey instrument for the 2007 CBECS.

The Environmental Protection Agency (EPA) has requested the inclusion of questions on the CBECS, relating to water consumption in commercial buildings. Pending funding from EPA and EIA and OMB approval, these questions will be used to gather some basic water use information to support a program to help consumers select more water efficient products.

For the 2003 CBECS, EPA's Energy Star program funded some supplemental sample cases and a few additional questions regarding the building activity. The purpose of their additional work was to help improve their publicly-available benchmarking models. We anticipate that a similar agreement will be put in place for the 2007 CBECS; discussions are currently underway.

The CBECS no longer collects data from energy suppliers about fuel oil or district heat consumption (consumption information for these sources are collected only from the building respondents). Forms EIA-871D and F have been eliminated.

Existing survey questions may be modified slightly based on knowledge gained from the 2003 CBECS and based on feedback from CBECS data users.

III. Request for Comments

Prospective respondents and other interested parties should comment on the actions discussed in item II. The following guidelines are provided to assist in the preparation of comments. Please indicate to which form(s) your comments apply.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Can the information be submitted by the due date?

D. Public reporting burden for this collection is estimated to average approximately 45 minutes per interview for the building respondent (Form EIA-871A) and approximately 30 minutes per energy supplier response in those cases where the data must be collected from the energy suppliers (Forms EIA-871C and E). The estimated burden includes the total time necessary to provide the requested information. In your opinion, how accurate is this estimate?

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They also will become a matter of public record.

Statutory Authority: Section 3507(h)(1) of the Paperwork Reduction Act of 1995 (Pub. L. 104-13, 44 U.S.C. Chapter 35).

Issued in Washington, DC, October 18, 2006.
Jay H. Casselberry,
Agency Clearance Officer, Energy Information Administration.

[FR Doc. E6-17856 Filed 10-24-06; 8:45 am]

BILLING CODE 6450-01-P